DEPARTMENT OF HEALTH AND HUMAN SERVICES

National Institutes of Health

Center for Scientific Review; Cancellation of Meeting

Notice is hereby given of the cancellation of the Center for Scientific Review Special Emphasis Panel, October 1, 2009, 11 a.m. to October 1, 2009, 12 p.m., One Washington Circle Hotel, One Washington Circle, NW., Washington, DC 20037 which was published in the Federal Register on September 15, 2009, 74 FR 47262-47264.

The meeting was cancelled due to administration problems.

Dated: September 21, 2009.
Jennifer Spaeth,
Director, Office of Federal Advisory Committee Policy.

[FR Doc. E9-23238 Filed 9-25-09; 8:45 am]

BILLING CODE 4140-01-M